DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of August 9, 2010 through August 13, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1- year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
72,956 | Jasper Chair Company | Jasper, IN | November 19, 2008.
73,302 | Wolfe Dye & Bleach Works, Inc | Shoemakersville, PA | January 7, 2009.
73,587 | ArcelorMittal Weirton, Inc., Leased Workers from The Hudson Company | Weirton, WV | February 26, 2009.
74,001 | Connextions, Inc., Sprint Operating Unit | Concord, NC | April 20, 2009.
74,460 | Sing Fei, Inc | San Francisco, CA | July 24, 2009.

The following certifications have been issued. The requirements of Section 222(a)(2)(B) (shift in production or services) of the Trade Act have been met.

TA-W No. | Subject firm | Location | Impact date
72,734 | Nukote International, Inc | Rochester, NY | October 30, 2008.
72,896 | Staffmark, Working On Site at Leach International | Buena Park, CA | November 18, 2008.
72,936 | Current Medicine Group, LLC, Springs Science+Business Media Finance, Inc | Philadelphia, PA | November 19, 2008.
73,450 | Cytec Industries, Inc., Corporate Service Employees, Employee Reporting to Woodland Park, NJ | Woodland Park, NJ | January 29, 2009.
73,450A | Cytec Industries, Inc., Corporate Service Employees, Leased Workers from Advanced Personnel, etc | Winona, MN | January 29, 2009.
73,450B | Cytec Industries, Inc., Corporate Service Employees, Leased Workers from Advanced Personnel, etc | Greenville, TX | January 29, 2009.
73,450C | Cytec Industries, Inc., Corporate Service Employees, Leased Workers from Advanced Personnel, etc. | Piedmont, SC | January 29, 2009.
73,450D | Cytec Industries, Inc., Corporate Service Employees, Leased Workers from Advanced Personnel, etc | Anaheim, CA | January 29, 2009.
73,450E | Cytec Industries, Inc., Corporate Service Employees, Leased Workers from Advanced Personnel, etc | Havre De Grace, MD | January 29, 2009.
73,450F | Cytec Industries, Inc., Corporate Service Employees, Leased Workers from Advanced Personnel, etc | Smyrna, GA | January 29, 2009.
73,450G | Cytec Industries, Inc., Corporate Service Employees, Leased Workers from Advanced Personnel, etc | Westwego, LA | January 29, 2009.
73,450H | Cytec Industries, Inc., Corporate Service Employees, Leased Workers from Advanced Personnel, etc | Mount Pleasant, TN | January 29, 2009.
73,450I | Cytec Industries, Inc., Corporate Service Employees, Leased Workers from Advanced Personnel, etc | Stamford, CT | January 29, 2009.
73,450J | Cytec Industries, Inc., Corporate Service Employees, Leased Workers from Advanced Personnel, etc | North Augusta, SC | January 29, 2009.
73,450K | Cytec Industries, Inc., Corporate Service Employees, Leased Workers from Advanced Personnel, etc | Tempe, AZ | January 29, 2009.
73,513 | Farley's and Sathers Candy Company, Inc., On-site Leased Workers from Doherty Staffing Solutions | Round Lake, MN | February 17, 2009.
73,577 | Aigis Mechtronics, Inc., A Subsidiary of Nortek, Inc., Leased Workers of Adecco Employment Services | Winston-Salem, NC | February 22, 2009.
73,635 | The Boeing Company, Engineering Operations, etc., Off-Site Workers Reporting to St. Louis, MO | St. Louis, MO | February 24, 2009.
73,635A | The Boeing Company, Engineering Operations & Technology Div. & Information Technology Div | St. Charles, MO | February 24, 2009.
73,635B | The Boeing Company, Engineering Operations & Technology Div. & Information Technology Div | Hazelwood, MO | February 24, 2009.
73,753 | Lodging by Liberty, Inc., Brown Jordan International, Inc.; BJI Employee Services; etc | Liberty, NC | March 15, 2009.
73,775 | Eli Lilly and Company, Chemical Process Research and Development Pilot Plant | Indianapolis, IN | March 22, 2009.
73,796 | Keane, Inc., Teachers Insurance Annuity Association—College Retirement Equities Fund | Denver, CO | March 26, 2009.
73,806 | Multina, USA | Plattsburgh, NY | March 18, 2009.
73,849 | LTX-Credence Corporation, Leased Workers from ATR International, Inc | Hillsboro, OR | March 16, 2009.
73,878 | HNTB Corporation, HNTB Holding, LTD., Accounting Department | Kansas City, MO | April 1, 2009.
73,917 | Stanadyne Corporation, Pencil Nozzel Injector Division, Leased Workers from Pro-Type | Jacksonville, NC | April 13, 2009.
74,012 | GM Powertrain Defiance CET, General Motors | Defiance, OH | April 14, 2009.
74,058 | Pentel of America, Ltd., Manufacturing Division | Torrance, CA | May 6, 2009.
74,112 | Edwards Vacuum, Inc., Leased Workers from Manpower and Kforce | Tewksbury, MA | May 17, 2009.
74,140 | Sweater Project Corp | North Bergen, NJ | May 11, 2009.
74,223 | White's Metal Works, Inc | Bassett, VA | June 10, 2009.
74,293 | The Boeing Company, Engineering Operations & Technology Div. & Information Technology Div | Long Beach, CA | June 7, 2009.
74,293A | The Boeing Company, Engineering Operations & Technology Div. & Information Technology Div | Anaheim, CA | June 7, 2009.
74,293B | The Boeing Company, Engineering Operations & Technology Div. & Information Technology Div | El Segundo, CA | June 7, 2009.
74,293C | The Boeing Company, Engineering Operations & Technology Div. & Information Technology Div | Huntington Beach, CA | June 7, 2009.
74,293D | The Boeing Company, Engineering Operations & Technology Div. & Information Technology Div | Irvine, CA | June 7, 2009.
74,293E | The Boeing Company, Engineering Operations & Technology Div. & Information Technology Div | Lemoore, CA | June 7, 2009.
74,293F | The Boeing Company, Engineering Operations & Technology Div. & Information Technology Div | Seal Beach, CA | June 7, 2009.
74,348 | The TriZetto Group, Inc., Leased Workers from Syntel Limited, Inforonics, LLC, etc | Greenwood Village, CO | July 1, 2009.
74,354 | HSBC Card Services, Inc., HSBC North American Holdings, Security and Fraud Dept., etc | Tulsa, OK | June 18, 2009.
74,381 | Quiksilver Americas, Quiksliver Screenprint Operations, Leased Workers from Rainmaker Staffing | Huntington Beach, CA | May 8, 2010.
74,391 | Travelers Indemnity Company, Claims Services, Workers' Compensation Subrogation | Wyomissing, PA | July 13, 2009.
74,394 | Laserwords U.S., Inc., Laserwords Private LTD, Leased Workers from Kelly Services | Lewiston, ME | June 11, 2009.
74,433 | Prudential Insurance Company of America, Prudential Retirement | Hartford, CT | July 26, 2009.
74,441 | Hagemeyer North America, El Paso Branch | El Paso, TX | July 19, 2009.
74,442 | Hagemeyer North America, Mcallen Branch | McAllen, TX | July 19, 2009.
74,443 | StarTek USA, Inc., Resource Planning Department, Off-Site Teleworker Bryan Martin | Denver, CO | July 19, 2009.
74,443A | StarTek USA, Inc., Resource Planning Department | Collinsville, VA | July 19, 2009.
74,443B | StarTek USA, Inc., Resource Planning Department | Decatur, IL | July 19, 2009.
74,443C | StarTek USA, Inc., Resource Planning Department | Jonesboro, AR | July 19, 2009.
74,443D | StarTek USA, Inc., Resource Planning Department | Mansfield, OH | July 19, 2009.
74,443E | StarTek USA, Inc., Resource Planning Department | Lynchburg, VA | July 19, 2009.
74,443F | StarTek USA, Inc., Resource Planning Department | Enid, OK | July 19, 2009.
74,443G | StarTek USA, Inc., Resource Planning Department | Grand Junction, CO | July 19, 2009.
74,457 | Leach International, Esterline Technologies, Leased Workers from Ultimate Staffing Service, etc | Buena Park, CA | July 22, 2009.
74,461 | Providence Chain Company, Leased Workers from Microtech Staffing Group and Occupations Unlimited | Providence, RI | July 30, 2009.

The following certifications have been issued. The requirements of Section 222(c) (supplier to a firm whose workers are certified eligible to apply for TAA) of the Trade Act have been met.

TA-W No. | Subject firm | Location | Impact date
72,886 | Turner Techtronics, Inc | Burbank, CA | November 17, 2008.
73,165 | James Hamilton Construction Company, Tyrone Mine | Silver City, NM | December 23, 2008.

The following certifications have been issued. The requirements of Section 222(c) (downstream producer for a firm whose workers are certified eligible to apply for TAA) of the Trade Act have been met.

TA-W No. | Subject firm | Location | Impact date
73,431 | Milliken & Company, Apparel Division | Barnwell, SC | January 19, 2009.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
72,283 | International Business Machines (IBM), Global Technology Services Delivery Division, Massachusetts Teleworkers | Endicott, NY
72,283A | International Business Machines (IBM), Domino Server Application Development Team, etc., Massachusetts Teleworkers | Endicott, NY
74,256 | Ferragon Corporation, Ferrous Metal Processing Company | Brooklyn, OH |

The investigation revealed that the criteria under paragraphs(a)(2)(A) (increased imports) and (a)(2)(B) (shift in production or services to a foreign country) of section 222 have not been met.

TA-W No. | Subject firm | Location | Impact date
72,842 | Nabors Well Services, Ltd., Nabors Industries, Ltd | San Angelo, TX
72,971 | ASC Machine Tools, Inc | Spokane Valley, WA
73,101 | Tyler Pipe Company, Soil/Plumbing Division, North Plant | Tyler, TX
73,110 | Robin Industries, Inc., Cleveland Manufacturing | Cleveland, OH
73,374 | Marshalltown Company | Marshalltown, IA
73,413 | Unit Structures, LLC | Magnolia, AR
73,717 | Aperto Networks, Inc., Operations Department | Milpitas, CA
73,723 | FirstSolutions, Claims Processing Center | Two Harbors, MN
73,863 | SuperMedia, LLC, FKA Idearc Media, LLC, Supermedia Information Services, LLC | Bensalem, PA
73,950 | Auto Builders, Inc | Ladson, SC
74,021 | Diagnostic Staffing Services, LLC | Pittsburgh, PA
74,281 | Humana Insurance Company, Carenetwork, Inc | Green Bay, WI
74,321 | Beloit Health Systems/Beloit Clinic, The Health Information Management Transcription Department | Beloit, WI
74,362 | Harley-Davidson Motor Company Operations, Inc | York, PA

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
72,463 | Draexlmaier Automotive of America, LLC | Duncan, SC
72,771 | HMC Technologies | New Albany, MS
73,827 | Architectural Glazing Technologies, On-site Leased Workers Bonney Staffing | Sanford, ME
74,273 | Doyle and Roth Manufacturing Company, Inc | Simpson, PA
74,383 | Blen-Col, Inc., DBA L&A Molding (Hudson Color Concentrates) | Leominster, MA
74,451 | StarTek USA, Inc., Off-Site Worker | Denver, CO

The following determinations terminating investigations were issued because the petitioning groups of workers are covered by active certifications. Consequently, further investigation in these cases would serve no purpose since the petitioning group of workers cannot be covered by more than one certification at a time.

TA-W No. | Subject firm | Location | Impact date
73,589 | DuPont Performance Coatings, E.I. Dupont De Nemours Company OEM | Fenton, MO
74,092 | Cytec Engineered Materials, Inc., Corporate Service Employees | Winona, MN
74,093 | Cytec Engineered Materials, Inc., Corporate Service Division | Greenville, TX
74,094 | Cytec Carbon Fibers, LLC, Corporate Service Division | Piedmont, SC
74,095 | Cytec Engineered Materials, Inc., Corporate Service Division | Anaheim, CA
74,096 | Cytec Engineered Materials, Inc., Corporate Service Division | Havre de Grace, MD
74,097 | Cytec Surface Specialties, Inc., Corporate Service Division | Smyrna, GA
74,098 | Building Block Chemicals, Corporate Service Division | Westwego, LA
74,099 | Cytec Industries, Inc., Corporate Service Division | Mount Pleasant, TN
74,100 | Cytec Industries, Inc., Corporate Service Division | Stamford, CT
74,101 | Cytec Surface Specialties, Inc., Corporate Service Division | North Augusta, SC
74,102 | Cytec Engineered Materials, Inc., Corporate Service Division | Tempe, AZ
74,216 | Prudential Insurance Company of America, Prudential Retirement | Moosic, PA
74,444 | StarTek USA, Inc., Resource Planning Department | Collinsville, VA
74,445 | StarTek USA, Inc., Resource Planning Department | Decatur, IL
74,446 | StarTek USA, Inc., Resource Planning Department | Jonesboro, AR
74,447 | StarTek USA, Inc., Resource Planning Department | Mansfield, OH
74,448 | StarTek USA, Inc., Resource Planning Department | Lynchburg, VA
74,449 | StarTek USA, Inc | Enid, OK
74,450 | StarTek USA, Inc | Grand Junction, CO

The following determinations terminating investigations were issued because the Department issued a negative determination on petitions related to the relevant investigation period applicable to the same worker group. The duplicative petitions did not present new information or a change in circumstances that would result in a reversal of the Department's previous negative determination, and therefore, further investigation would duplicate efforts and serve no purpose.

TA-W No. | Subject firm | Location | Impact date
73,844 | J.C. Penney Company, Inc. | Waterford, MI |

I hereby certify that the aforementioned determinations were issued during the period of August 9, 2010 through August 13, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: August 19, 2010.
Elliott S. Kushner,
Certifying Officer, Division of Trade Adjustment Assistance.

[FR Doc. 2010-21394 Filed 8-27-10; 8:45 am]

BILLING CODE 4510-FN-P